DEPARTMENT OF THE INTERIOR

National Park Service

[NPS-WASO-NAGPRA-NPS0038841; PPWOCRADN0-PCU00RP14.R50000]

Notice of Inventory Completion: Hastings Museum, Hastings, NE

AGENCY: National Park Service, Interior.

ACTION: Notice.

SUMMARY: In accordance with the Native American Graves Protection and Repatriation Act (NAGPRA), the Hastings Museum has completed an inventory of human remains and associated funerary objects and has determined that there is a cultural affiliation between the human remains and associated funerary objects and Indian Tribes or Native Hawaiian organizations in this notice.

DATES: Repatriation of the human remains and associated funerary objects in this notice may occur on or after November 8, 2024.

ADDRESSES: Teresa Kreutzer-Hodson, Hastings Museum, 1330 North Burlington Avenue, Hastings, NE 68901, telephone (402) 461-2399, email tkreutzerhodson@cityofhastings.org.

SUPPLEMENTARY INFORMATION: This notice is published as part of the National Park Service's administrative responsibilities under NAGPRA. The determinations in this notice are the sole responsibility of the Hastings Museum, and additional information on the determinations in this notice, including the results of consultation, can be found in its inventory or related records. The National Park Service is not responsible for the determinations in this notice.

Abstract of Information Available

Human remains representing, at least, one individuals has been identified. The 26 associated funerary objects are the clothes remaining on the body as well a mixture of tribally made items and US military gear. The clothing consists of a US military long coat with cape, red striped long sleave cotton shirt, leather belt and loin cloth with beaded leggings, and beaded moccasins. Other funerary objects found with the body include tepee poles, bison robe, pipe bag, hoof rattle, lariat, several other leather bags, trade knife, willow back rest, bow and arrows and a Henry Rifle.

In July 1921, human remains representing one individual and associated funerary objects were removed a rock ledge overlooking the Powder River near Barnum, Johnson County, Wyoming by Adam Keith. The human remains and associated funerary objects were brought to the Hastings Museum by Albert Brooking and Ray Cole and cataloged in 1930 (09211-09224). These remains were identified in the 1920s as belonging to High Back Wolf III, a Cheyenne warrior killed in 1865. However, there is compelling evidence that this is the body could be of a different Cheyenne man known as Eagle Chef, killed in 1876. Once in the Museum care, the body and associated funerary objects were fumigated on multiple occasions and treated with a mixture of formaldehyde, alcohol and bichloride of mercury. It is highly likely other poisonous substances were used up through the1970s to prevent insect infestation.

Cultural Affiliation

Based on the information available and the results of consultation, cultural affiliation is clearly identified by the information available about the human remains and associated funerary objects described in this notice.

Determinations

The Hastings Museum has determined that:

• The human remains described in this notice represent the physical remains of one individuals of Native American ancestry.

• The 26 objects described in this notice are reasonably believed to have been placed intentionally with or near individual human remains at the time of death or later as part of the death rite or ceremony.

• There is a connection between the human remains and associated funerary objects described in this notice and the Cheyenne and Arapaho Tribes, Oklahoma and the Northern Cheyenne Tribe of the Northern Cheyenne Indian Reservation, Montana.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after November 8, 2024. If competing requests for repatriation are received, the Hastings Museum must determine the most appropriate requestor prior to repatriation. Requests for joint repatriation of the human remains and associated funerary objects are considered a single request and not competing requests. The Hastings Museum is responsible for sending a copy of this notice to the Indian Tribes and Native Hawaiian organizations identified in this notice.

Authority: Native American Graves Protection and Repatriation Act, 25 U.S.C. 3003, and the implementing regulations, 43 CFR 10.10.

Dated: September 30, 2024.
Melanie O'Brien,
Manager, National NAGPRA Program.

[FR Doc. 2024-23370 Filed 10-8-24; 8:45 am]

BILLING CODE 4312-52-P